DEPARTMENT OF AGRICULTURE

Forest Service

Helena National Forest, Lewis & Clark County, MT, Grazing Reauthorization for Marsh Creek and Tarhead Livestock Allotments

AGENCY: Forest Service, USDA.

ACTION: Notice of intent to prepare an Environmental Impact Statement (EIS).

SUMMARY: The Helena National Forest is going to prepare an environmental impact statement for proposed reauthorization of livestock grazing on two allotments, Marsh Creek and Tarhead, in the Marsh, Tarhead, Trout and Weino Creek drainages, tributaries to Canyon Creek and the Missouri River. The purpose and need for action is to determine whether livestock grazing will continue to be authorized on these allotments and, if so, to authorize grazing in a manner that will continue to meet or move toward direction in the Forest Plan while meeting other resource objectives.

DATES: Comments concerning the proposed action must be received by August 29, 2008. The draft EIS is expected to be available to the public in November/December of 2008 and the final EIS is expected to be available to the public in March/April of 2009.

ADDRESSES: Send written comments to Dea Nelson (Team Leader), 2880 Skyway Drive, Helena, MT 59601, (phone—406.495.3705) or for further information, call Amber Kamps (District Ranger) or Shawn Heinert (Rangeland Management Specialist) at 406.362.4265.

SUPPLEMENTARY INFORMATION:

Purpose and Need for Action

Term grazing permits currently authorize cattle grazing on the Marsh Creek and Tarhead allotments which are located in the Helena National Forest. The Helena National Forest proposes to continue to authorize grazing on these allotments under a revised allotment management plan, according to direction and objectives of the Forest Plan and in compliance with applicable laws, regulations, and policies.

A two-part decision is to be made for authorizing livestock grazing. First, it will be determined whether livestock grazing should be authorized on all, part, or none of the project area. Second, if the decision is to authorize some level of livestock grazing, then what management prescriptions will be applied (including standards, guidelines, grazing management, and monitoring) to ensure that desired condition objectives are met or that movement occurs toward those objectives.

This analysis will meet the requirement described in Section 504 of Public Law 104-19 which directed the Forest Service to complete NEPA analysis on allotments. Public Law 104-19 was signed in law on July 27, 1995 following the passing of the 1995 Rescission Bill.

Proposed Action

The Helena National Forest proposes to authorize grazing of livestock on the Marsh Creek and Tarhead allotments using an adaptive management strategy that allows implementation of additional improvements, as needed to (1) protect localized areas of riparian impacts and (2) to better facilitate livestock movement between pastures. It is proposed to provide for a range of stocking options—stocking rates, timing of grazing and duration of grazing—that would be adjusted based upon monitoring. The current stocking rate (authorized for 2007 and 2008) would be adjusted up or down depending upon the results of monitoring of utilization standards (stubble height) and evaluation of stream bank disturbance and other riparian conditions over a 3-5 year period. Specific utilization standards for key forage species needed to protect soil and water quality would be specified in the allotment management plan, as required by the Forest Plan (page II/22). Cattle distribution would be accomplished by a combination of salt and water placement and herding. Grazing would continue under a 2-pasture (Marsh Creek) or 3-pasture (Tarhead) deferred rotation as long as current utilization standards continue to be met. The overall authorized season of use would remain the same (July 1 to September 30). Stocking options, including the specific timing and duration of grazing in each pasture within the authorized season of use, would be based on monitoring of utilization standards in each pasture.

Stocking rates would not exceed levels authorized in the 1961 Allotment Management Plan: 269 AUMs for Marsh Creek Allotment, 277 AUMs for Tarhead Allotment. Experience over the past 45 years indicate that these levels provide a reasonable upper limit for stocking rates for purposes of this analysis. Grazing at the current level (approximately ⅔ of the maximum level) would continue until trends in vegetative conditions (both upland and riparian) indicate the need for a downward adjustment to accelerate improvement. Or, if objectives for vegetative conditions are met, upward adjustments in stocking would be considered if monitoring indicates those conditions and trends can be maintained.

On the Tarhead Allotment, a short section of upper Tar Head Creek, immediately adjacent to private land, would be fenced to restrict livestock access to stream banks. Riparian vegetation within the enclosure would continue to be monitored to evaluate recovery. To replace this source of livestock water, one off-stream water source (seep) would be developed. Riparian conditions at key sites on Trout and Weino Creeks would be monitored. It is expected that continued implementation of deferred grazing will result in improvement in conditions at these sites. However, if monitoring suggests that improvement is inadequate, off-site water source(s) would be developed and/or adjustments made in stocking rates.

On the Marsh Creek Allotment, the livestock are currently trailed from one pasture to the other via an existing road across private land. Should this practice become unacceptable with the landowner, a ¼-mile long stock driveway would need to be constructed on National Forest System lands requiring removal of trees from approximately 2 acres. Additionally, a ¼-½ mile of drift fence would be constructed across the driveway to confine livestock to the appropriate pasture.

Our analysis will consider implementation of these options (development of additional water sources and construction of a stock driveway), as well as the upper limits for stocking, as part of the adaptive management strategy.

Possible Alternatives

Possible alternatives, in addition to the proposed action, are No Action (current management) and No Livestock Grazing.

Responsible Official

Kevin Riordan, Forest Supervisor, 2880 Skyway Drive, Helena, MT 59601.

Nature of Decision To Be Made

The nature of the decision is two-part: 1. Whether livestock grazing should be authorized on all, part, or none of the project area. 2. If the decision is to authorize some level of livestock grazing, then what management prescriptions will be applied (including standards, guidelines, grazing management, and monitoring) to ensure that desired condition objectives are met or that movement occurs toward those objectives.

Scoping Process

• Scoping Package (mailing)—August, 2008.

• NOI—August, 2008.

• Post on Web site—August, 2008.

Preliminary Issues

Preliminary internal review, as well as public comments from 2007, indicates concerns with riparian conditions along relatively short (less than 1/4 mile), isolated stretches of streams on the Tarhead Allotment. Monitoring and follow-up action to adjust management to improve the recovery of these areas are the focus of the proposed action. Internal review has suggested the possible need in the future to provide an alternative to the current route used to trail livestock between pastures on the Marsh Creek allotment. Construction of a stock driveway is incorporated into the proposed action to address this possible future need.

Comment Requested

This notice of intent initiates the scoping process which guides the development of the environmental impact statement. Comments are due by August 22, 2008.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service Handbook 1909.15, Section 21)

Dated: July 23, 2008.
Kevin T. Riordan,
Forest Supervisor.

[FR Doc. E8-17429 Filed 7-31-08; 8:45 am]

BILLING CODE 3410-11-P